DEPARTMENT OF COMMERCE

National Oceanic and Atmospheric Administration

RIN 0648-XG092

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet April 2 through April 10, 2018, in Anchorage, AK.

DATES: The meetings will be held Monday, April 2 through Tuesday, April 10, 2018. See SUPPLEMENTARY INFORMATION for specific dates and times.

ADDRESSES: The meeting will be held at the Anchorage Hilton Hotel, 500 W 3rd Ave., Anchorage, AK 99501.

Council address: North Pacific Fishery Management Council, 605 W 4th Ave., Suite 306, Anchorage, AK 99501-2252; telephone (907) 271-2809.

FOR FURTHER INFORMATION CONTACT: Diana Evans, Council staff; telephone: (907) 271-2809.

SUPPLEMENTARY INFORMATION:

Agenda

The Council will begin its plenary session at 8 a.m. in the Aleutian Room on Wednesday, April 4, continuing through Tuesday, April 10, 2018. The Scientific and Statistical Committee (SSC) will begin at 8 a.m. in the King Salmon/Iliamna Room on Monday, April 2, and continue through Wednesday, April 4, 2018. The Council's Advisory Panel (AP) will begin at 8 a.m. in the Dillingham/Katmai Room on Tuesday, April 3 and continue through Friday April 6, 2018. The Enforcement Committee will meet on Tuesday, April 3, 2018 in the Birch/Willow Room from 1 p.m. to 4 p.m.

Monday, April 2, 2018 Through Tuesday, April 10, 2018

Council Plenary Session: The agenda for the Council's plenary session will include the following issues. The Council may take appropriate action on any of the issues identified.

(1) Executive Director's Report (including CCC update, Northern Edge 2017 report (T), and outreach and community engagement discussion)

(2) NMFS Management Report (including Pacific cod fishery management update, and report on pollock trip limit overages(T))

(3) ADF&G Report

(4) NOAA GC Report

(5) NIOSH Report

(6) USCG Report

(7) USFWS Report

(8) Protected Species Report (including seabird conservation working group update)

(9) Salmon FMP Amendment for Cook Inlet

(10) Scallop SAFE and Plan Team Report—Set OFL/ABC Catch Specifications

(11) Charter Halibut Annual Permit Registration

(12) Mixing of guided and unguided halibut

(13) Salmon bycatch: Pollock ICA/IPA Reports; Update on Salmon Genetics and BSAI salmon Adult Equivalency (AEQ)

(14) GOA CV Chinook PSC limit adjustments

(15) Co-op Reports (AFA, AM 80, GOA Rockfish, BSAI Crab)

(16) Halibut retention in BSAI sablefish pots

(17) Halibut Abundance-based PSC limits

(18) Regulatory Reform Review

(19) Committees and Tasking

The Advisory Panel will address most of the same agenda issues as the Council except B reports.

The SSC agenda will include the following issues:

(1) Salmon bycatch: Update on Salmon Genetics and BSAI salmon Adult Equivalency (AEQ)

(2) Scallop SAFE and Plan Team Report—Set OFL/ABC Catch Specifications

(3) GOA CV Chinook PSC limit adjustments

(4) Halibut retention in BSAI sablefish pots

(5) Seabird Conservation Update

(6) Halibut Abundance-based PSC limits

The Enforcement Committee agenda will include review of the Mixing of Guided and Unguided Halibut analysis.

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

The Agendas are subject to change, and the latest versions will be posted at http://www.npfmc.org/.

Although other non-emergency issues not on the agenda may come before these groups for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Shannon Gleason at (907) 271-2809 at least 7 working days prior to the meeting date.

Dated: March 13, 2018.
Jeffrey N. Lonergan,
Acting Deputy Director, Office of Sustainable Fisheries, National Marine Fisheries Service.

[FR Doc. 2018-05396 Filed 3-15-18; 8:45 am]

BILLING CODE 3510-22-P